DEPARTMENT OF VETERANS AFFAIRS

Advisory Committee on Former Prisoners of War, Notice of Meeting

The Department of Veterans Affairs (VA) gives notice under the Federal Advisory Committee Act, 5 U.S.C. ch. 10., that the Advisory Committee on Former Prisoners of War (Committee) will conduct a hybrid meeting (in-person and virtual) on August 28-29, 2024 at the VA Central Office, 810 Vermont Avenue, Sonny Montgomery Conference Room 230, Washington, DC 20420. Public participation will commence as follows:

Date | Time | Location | Open session
August 28, 2024 | 8:00 a.m.-4:00 p.m. Eastern Standard Time (EST) | VA Central Office, 810 Vermont Ave./Webex Link and Call-in Information Below | Yes.
August 29, 2024 | 9:00 a.m.-5:00 p.m. (EST) | VA Central Office, 810 Vermont Ave./Webex Link and Call-in Information Below | Yes.

The meeting sessions are open to the public.

The purpose of the Committee is to advise the Secretary of Veterans Affairs on the administration of benefits under title 38 U.S.C., for Veterans who are former prisoners of war (FPOW), and the needs of these Veterans, in the areas of compensation, health care, and rehabilitation.

On Wednesday, August 28th, the Committee will assemble in open session for discussions and briefings from VA Central Office, Veterans Benefits Administration and Veterans Health Administration officials.

On Thursday, August 29th, the Committee will assemble in open session for discussions and briefings on benefits and services that available to FPOWs and surviving spouses.

FPOWs who wish to speak at the public forum are invited to submit a 1-2-page commentary for inclusion in official meeting records. Any member of the public may also submit a 1-2-page commentary for the Committee's review.

Any member of the public wishing to attend the meeting or seeking additional information should contact, Julian Wright, Designated Federal Officer, Department of Veterans Affairs, Advisory Committee on Former Prisoners of War at Julian.Wright2@va.gov no later than August 1, 2024. Any member of the public who wishes to participate in the virtual meeting may use the following Microsoft Teams Meeting Link:

Join on Your Computer or Mobile App

Day 1

https://veteransaffairs.webex.com/veteransaffairs/j.php?MTID=m2e84c6b57cd813346d65f3c91d44b67b.

Webinar Number: 2826 524 4971.

Join by video system:

Dial 28265244971@veteransaffairs.webex.com.

You can also dial 207.182.190.20 and enter your webinar number.

Join by phone:

14043971596 USA Toll Number.

Access code: 2826 524 4971.

Day 2

https://veteransaffairs.webex.com/veteransaffairs/j.php?MTID=m2e84c6b57cd813346d65f3c91d44b67b.

Webinar Number: 2818 034 0600.

Join by video system:

Dial 28180340600@veteransaffairs.webex.com.

You can also dial 207.182.190.20 and enter your webinar number.

Join by phone:

14043971596 USA Toll Number.

Access code: 2818 034 0600.

Dated: July 22, 2024.
Jelessa M. Burney,
Federal Advisory Committee Management Officer.

[FR Doc. 2024-16359 Filed 7-24-24; 8:45 am]

BILLING CODE 8320-01-P